DEPARTMENT OF TRANSPORTATION

Office of the Secretary

[DOT-OST-2004-17264]

Notice of Applications for Certificates of Public Convenience and Necessity and Foreign Air Carrier Permits Filed Under Subpart B (Formerly Subpart Q) During the Week Ending February 14, 2009

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2004-17264.

Date Filed: February 11, 2009.

Due Date for Answers, Conforming Applications, or Motion to Modify Scope: March 4, 2009.

Description: Application of JetBlue Airways Corporation requesting renewal of its exemption authority to provide scheduled air transportation of passengers, freight and mail from Boston, Massachusetts (“BOS”) to Bermuda (“BDA”); and renewal of its request for a certificate of public convenience and necessity to operate such service to Bermuda.

Renee V. Wright,
Program Manager, Docket Operations, Federal Register Liaison.

[FR Doc. E9-3989 Filed 2-24-09; 8:45 am]

BILLING CODE 4910-9X-P